DEPARTMENT OF ENERGY

Federal Energy Regulatory Commission

Combined Notice of Filings

Take notice that the Commission has received the following Natural Gas Pipeline Rate and Refund Report filings:

Filings Instituting Proceedings

Docket Numbers: RP17-416-000.

Applicants: Equitrans, L.P.

Description: Equitrans, L.P. submits tariff filing per 154.204: Negotiated Rate Service Agreement—BP Energy Company to be effective 4/1/2017.

Filed Date: 02/24/2017.

Accession Number: 20170224-5006.

Comment Date: 5:00 p.m. Eastern Time on Wednesday, March 08, 2017.

Docket Numbers: RP17-417-000.

Applicants: Equitrans, L.P.

Description: Equitrans, L.P. submits tariff filing per 154.204: Updated Initial Retainage Rate 3-1-2017 to be effective 3/1/2017.

Filed Date: 02/24/2017.

Accession Number: 20170224-5009.

Comment Date: 5:00 p.m. Eastern Time on Wednesday, March 08, 2017.

Docket Numbers: RP17-418-000.

Applicants: Rockies Express Pipeline LLC.

Description: Rockies Express Pipeline LLC submits tariff filing per 154.204: Neg Rate 2017-02-24 ConocoPhillips to be effective 2/24/2017.

Filed Date: 02/24/2017.

Accession Number: 20170224-5067.

Comment Date: 5:00 p.m. Eastern Time on Wednesday, March 08, 2017.

Docket Numbers: RP17-419-000.

Applicants: El Paso Natural Gas Company, L.L.C.

Description: El Paso Natural Gas Company, L.L.C. submits tariff filing per 154.601: Negotiated Rate Agreement Update (Pioneer Mar 2017) to be effective 3/1/2017.

Filed Date: 02/24/2017.

Accession Number: 20170224-5085.

Comment Date: 5:00 p.m. Eastern Time on Wednesday, March 08, 2017.

Docket Numbers: RP17-420-000.

Applicants: TransColorado Gas Transmission Company L.

Description: TransColorado Gas Transmission Company LLC submits tariff filing per 154.601: Negotiated Rate Agreement Update (Conoco 2017) to be effective 3/1/2017.

Filed Date: 02/24/2017.

Accession Number: 20170224-5086.

Comment Date: 5:00 p.m. Eastern Time on Wednesday, March 08, 2017.

Docket Numbers: RP17-421-000.

Applicants: Dominion Carolina Gas Transmission, LLC.

Description: Dominion Carolina Gas Transmission, LLC submits tariff filing per 154.203: DCGT—2016 Annual Peak Day Capacity Report.

Filed Date: 02/24/2017.

Accession Number: 20170224-5112.

Comment Date: 5:00 p.m. Eastern Time on Wednesday, March 08, 2017.

Docket Numbers: RP17-422-000.

Applicants: Rockies Express Pipeline LLC.

Description: Rockies Express Pipeline LLC submits tariff filing per 154.204: Neg Rate 2017-02-24 BP for 2-25 to be effective 2/25/2017.

Filed Date: 02/24/2017.

Accession Number: 20170224-5161.

Comment Date: 5:00 p.m. Eastern Time on Wednesday, March 08, 2017.

Docket Numbers: RP17-423-000.

Applicants: EQT Energy, LLC, EQT Production Company, Stone Energy Corporation.

Description: Joint Petition of EQT Energy, LLC, et. al. for Limited Waivers and Request for Expedited Action.

Filed Date: 02/24/2017.

Accession Number: 20170224-5190.

Comment Date: 5:00 p.m. Eastern Time on Friday, March 03, 2017.

Docket Numbers: RP17-424-000.

Applicants: Kern River Gas Transmission Company.

Description: Kern River Gas Transmission Company submits tariff filing per 154.204: 2017 Daggett Surcharge to be effective 4/1/2017.

Filed Date: 02/27/2017.

Accession Number: 20170227-5092.

Comment Date: 5:00 p.m. Eastern Time on Monday, March 13, 2017.

Docket Numbers: RP17-425-000.

Applicants: Equitrans, L.P.

Description: Equitrans, L.P. submits tariff filing per 154.204: Assignment of Stone Energy to EQT Energy to be effective 2/27/2017.

Filed Date: 02/27/2017.

Accession Number: 20170227-5109.

Comment Date: 5:00 p.m. Eastern Time on Monday, March 13, 2017.

Docket Numbers: RP17-426-000.

Applicants: LA Storage, LLC.

Description: LA Storage, LLC submits tariff filing per 154.203: LA Storage Annual Adjustment of Fuel Retainage Percentage to be effective 3/1/2017.

Filed Date: 02/27/2017.

Accession Number: 20170227-5122.

Comment Date: 5:00 p.m. Eastern Time on Monday, March 13, 2017.

Docket Numbers: RP17-427-000.

Applicants: Golden Pass Pipeline LLC.

Description: Golden Pass Pipeline LLC submits tariff filing per 154.203: Golden Pass Pipeline 2016 Annual Operational Purchases and Sales Report.

Filed Date: 02/27/2017.

Accession Number: 20170227-5147.

Comment Date: 5:00 p.m. Eastern Time on Monday, March 13, 2017.

Docket Numbers: RP17-428-000.

Applicants: Tallgrass Interstate Gas Transmission, L.

Description: Tallgrass Interstate Gas Transmission, LLC submits tariff filing per 154.204: FL&U Percentage and Electric Power Charge Periodic Rate Adjustment to be effective 4/1/2017.

Filed Date: 02/27/2017.

Accession Number: 20170227-5166.

Comment Date: 5:00 p.m. Eastern Time on Monday, March 13, 2017.

Docket Numbers: RP17-429-000.

Applicants: Golden Pass Pipeline LLC.

Description: Golden Pass Pipeline LLC submits tariff filing per 154.203: Golden Pass Pipeline 2017 Annual Retainage Report to be effective 4/1/2017.

Filed Date: 02/27/2017.

Accession Number: 20170227-5185.

Comment Date: 5:00 p.m. Eastern Time on Monday, March 13, 2017.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: March 1, 2017.
Nathaniel J. Davis, Sr.,
Deputy Secretary.

[FR Doc. 2017-04412 Filed 3-6-17; 8:45 am]

BILLING CODE 6717-01-P